ENVIRONMENTAL PROTECTION AGENCY

[EPA-HQ-OPPT-2019-0075; FRL-9992-83]

Certain New Chemicals; Receipt and Status Information for September 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 09/01/2019 to 09/30/2019.

DATES: Comments identified by the specific case number provided in this document must be received on or before February 3, 2020.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 09/01/2019 to 09/30/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995 (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 09/01/2019 to 09/30/2019
Case No. | Version | Received date | Manufacturer | Use | Chemical substance
J-19-0026 | 1 | 09/18/2019 | CBI | (G) Production of Biofuel | (G) Biofuel-producing modified microorganism(s), with chromosomally-borne modifications.
J-19-0027 | 1 | 09/18/2019 | CBI | (G) Production of Biofuel | (G) Biofuel-producing modified microorganism(s), with chromosomally-borne modifications.
P-16-0053A | 2 | 09/03/2019 | CBI | (G) Printing ink applications | (G) Acrylated polycarbonate polyol.
P-16-0225A | 5 | 09/16/2019 | International Flavors & Fragrances Inc | (S) The notified substance will be used as a fragrance ingredient, being blended (mixed) with other fragrance ingredients to make fragrance oils that will be sold to industrial and commercial customers for their incorporation into soaps, detergents, cleaners, air fresheners, candles and other similar industrial, household and consumer products | (S) isomer mixture of Cyclohexanol, 4-ethylidene-2-propoxy- (CAS 1631145-48-6) (35-45%) and Cyclohexanol, 5-ethylidene-2-propoxy (CAS 1631145-49-7) (45-55%).
P-16-0225A | 6 | 09/16/2019 | International Flavors & Fragrances Inc | (S) The notified substance will be used as a fragrance ingredient, being blended (mixed) with other fragrance ingredients to make fragrance oils that will be sold to industrial and commercial customers for their incorporation into soaps, detergents, cleaners, air fresheners, candles and other similar industrial, household and consumer products | (S) isomer mixture of Cyclohexanol, 4-ethylidene-2-propoxy- (CAS 1631145-48-6) (35-45%) and Cyclohexanol, 5-ethylidene-2-propoxy (CAS 1631145-49-7) (45-55%).
P-16-0410A | 5 | 09/18/2019 | CBI | (G) Automotive engine fluid additive | (G) Silicophosphonate-sodium silicate.
P-16-0438A | 14 | 05/27/2019 | CBI | (S) Intermediate for pesticide inert | (S) 3-Butenenitrile, 2-(acetyloxy).
P-16-0442A | 6 | 09/04/2019 | CBI | (G) Polymer for coatings | (G) Carboxylic acids, unsaturated, polymers with disubstituted amine, alkanediol, substituted alkylpropanoic acid, alkanedioic acid and substituted isocyanatocycloalkane, compds with alkylamine.
P-16-0443A | 6 | 09/04/2019 | CBI | (G) Polymer for coatings | (G) Carboxylic acids, unsaturated, hydrogenated polymers with disubstituted amine, alkanediol, substituted alkylpropanoic acid, alkanedioic acid and substituted isocyanatocycloalkane, compds with alkylamine.
P-16-0444A | 6 | 09/04/2019 | CBI | (G) Polymer for coatings | (G) Carboxylic acids, unsaturated, polymers with substituted alkanediamine, alkanediol, substituted alkylpropanoic acid, alkanedioic acid and substituted isocyanatocycloalkane, compds with alkylamine.
P-16-0445A | 6 | 09/04/2019 | CBI | (G) Polymer for coatings | (G) Carboxylic acids, unsaturated, hydrogenated polymers with substituted alkanediamine, alkanediol, substituted alkylpropanoic acid, alkanedioic acid and substituted isocyanatocycloalkane, compds with alkylamine.
P-16-0509A | 11 | 03/26/2019 | CBI | (G) For packaging application, and Resin or film/sheet for the industrial use | (G) Modified ethylene-vinyl alcohol copolymer.
P-16-0541A | 5 | 08/21/2019 | Specialty Organics, Inc | (S) Adhesive for wood particle/chip/fiberboard | (S) Soybean meal, reaction products with phosphoric trichloride.
P-17-0003A | 10 | 09/03/2019 | CBI | (G) Printing ink applications | (G) Styrene(ated) copolymer with alkyl(meth)acrylate, and (meth)acrylic acid.
P-17-0016A | 6 | 09/03/2019 | CBI | (G) Polymer for coatings | (G) hydroxyl alkyl acrylate ester, polymer with acrylates, aromatic vinyl monomer, cycloaliphatic lactone, and alkyl carboxylic acid, peroxide initiated.
P-17-0017A | 6 | 09/03/2019 | CBI | (G) Polymer for coatings | (G) hydroxyl alkyl acrylate ester, polymer with acrylates, aromatic vinyl monomer, cycloaliphatic lactone, and alkyl carboxylic acid, peroxide initiated.
P-17-0018A | 6 | 09/03/2019 | CBI | (G) Polymer for coatings | (G) hydroxyl alkyl acrylate ester, polymer with acrylates, aromatic vinyl monomer, cycloaliphatic lactone, and alkyl carboxylic acid, Azobis[aliphatic nitrile] initiated.
P-17-0019A | 6 | 09/03/2019 | CBI | (G) Polymer for coatings | (G) hydroxyl alkyl acrylate ester, polymer with acrylates, aromatic vinyl monomer, cycloaliphatic lactone, and alkyl carboxylic acid, peroxide initiated.
P-17-0020A | 6 | 09/03/2019 | CBI | (G) Polymer for coatings | (G) hydroxyl alkyl acrylate ester, polymer with acrylates, aromatic vinyl monomer, cycloaliphatic lactone, and alkyl carboxylic acid, peroxide initiated.
P-17-0021A | 6 | 09/03/2019 | CBI | (G) Polymer for coatings | (G) hydroxyl alkyl acrylate ester, polymer with acrylates, aromatic vinyl monomer, cycloaliphatic lactone, and alkyl carboxylic acid, Azobis[aliphatic nitrile] initiated.
P-17-0026A | 4 | 09/03/2019 | CBI | (G) Industrial Ink printing applications | (G) Cycloaliphatic diamine, polymer with .alpha-hydro-.omega.-hydroxypoly(oxy-alkanediyl), alpha-hydro-omega-hydroxypoly(oxy-alkanediyl), and cycloaliphatic diisocyanate.
P-17-0086A | 3 | 09/10/2018 | CBI | (G) Perfume | (G) Cycloalkyl, bis(ethoxyalkyl)-, trans-Cycloalkyl, bis(ethoxyalkyl)-, cis-
P-17-0121A | 5 | 09/04/2019 | CBI | (S) Polyurethane used in an adhesive | (G) Methylene Diphenyl Diisocyanate Terminated Polyurethane Resin.
P-17-0152A | 4 | 08/29/2019 | CBI | (G) Additive in home care products | (G) Poly-(2-methyl-1-oxo-2-propen-1-yl) ester with Ethanaminium, N,N,N-trialkyl, chloride and methoxypoly(oxy-1,2-ethanediyl).
P-17-0160A | 3 | 09/03/2019 | CBI | (G) Binder | (G) 2-Propenoic acid, alkyl-, alkyl ester, polymer with alkyl 2-propenoate, dialkyloxoalkyl-2-propenamide and alkyl 2-propenoate.
P-17-0161A | 3 | 09/03/2019 | CBI | (G) Binder | (G) 2-Propenoic acid, alkyl-, alkyl ester, polymer with alkyl 2-propenoate, dialkyloxoalkyl-2-propenamide, ethenylbenzene and alkyl 2-propenoate.
P-17-0184A | 5 | 09/12/2019 | Colonial Chemical, Inc | (S) Firefighting foams, Personal Care Products, Shampoos, Conditioners, Facial Washes, Transportation Washes, and Industrial All-Purpose Cleaners | (S) 1-Propanaminium, 2-hydroxy-N, N-dimethyl-N-[3-[(1-oxooctyl-amino]propyl]-3-sulfo-, inner salt.
P-17-0200A | 5 | 09/16/2019 | CBI | (S) Monomer for use to manufacture of a high performance polymer | (G) 1,3-bis(substitutedbenzoyl)benzene.
P-17-0204A | 5 | 09/16/2019 | CBI | (S) Monomer for high performance polymer | (G) 1,4-bis(substitutedbenzoyl)benzene.
P-17-0205A | 6 | 09/16/2019 | CBI | (S) Monomer for high performance polymer and, (G) A-n process reagent | (G) bis(fluorobenzoyl)benzene.
P-17-0207A | 5 | 09/03/2019 | CBI | (G) Paint | (G) 2-alkenoic acid, 2 alkyl, 2 alkyl ester, polymer with alkyl alkenoate, carbomonocyle, alkyl alkenoate and alkyl alkenoate, alkyl peroxide initiated.
P-17-0233A | 3 | 09/23/2019 | Solenis LLC | (S) Creping Aid for Yankee Dryers to manufacture tissue and towel paper | (G) Oxyalkylene modified polyalkyl amine alkyl diacid polymer with 2-(chloromethyl)oxirane.
P-17-0298A | 3 | 09/06/2019 | GE Water & Process Technologies | (S) The notified substance is described as a hydrogen sulfide scavenger used in controlling hydrogen sulfide in the vapor space of fuel storage, shipping vessels and pipelines. It is designed to reduce the health, safety and environmental hazards of handling fuels containing H2S. The substance reacts selectively with (neutralizes) and removes H2S to help meet product and process specifications | (S) Formaldehyde, homopolymer, reaction products with N-propyl-1-propanamine.
P-17-0329A | 10 | 09/05/2019 | CBI | (G) Intermediate used in synthesis | (G) Substituted haloaromatic trihaloalkyl-aromatic alkanone.
P-17-0346A | 10 | 09/12/2019 | CBI | (G) Destructive use | (G) Propyl Phosphonium Salt.
P-17-0347A | 4 | 09/12/2019 | Sasol Chemicals (USA) LLC | (G) Oilfield Surfactant | (S) Oxirane, 2-methyl-, polymer with oxirane, mono(2-butyloctyl) ether.
P-17-0348A | 4 | 09/12/2019 | Sasol Chemicals (USA) LLC | (G) Oilfield Surfactant | (S) Oxirane, 2-methyl-, polymer with oxirane, mono(2-hexyldecyl) ether.
P-17-0349A | 4 | 09/12/2019 | Sasol Chemicals (USA) LLC | (G) Oilfield Surfactant | (S) Oxirane, 2-methyl-, polymer with oxirane, mono(2-octyldodecyl) ether.
P-17-0350A | 4 | 09/12/2019 | Sasol Chemicals (USA) LLC | (G) Oilfield Surfactant | (S) Oxirane, 2-methyl-, polymer with oxirane, mono(2-decyltetradecyl) ether.
P-17-0351A | 4 | 09/12/2019 | Sasol Chemicals (USA) LLC | (G) Oilfield Surfactant | (S) Oxirane, 2-methyl-, polymer with oxirane, mono(2-dodecylhexadecyl) ether.
P-17-0352A | 4 | 09/12/2019 | Sasol Chemicals (USA) LLC | (G) Oilfield Surfactant | (S) Oxirane, 2-methyl-, polymer with oxirane, mono(2-tetradecyloctadecyl) ether.
P-17-0387A | 6 | 09/03/2019 | CBI | (G) Paint | (G) Dicarboxylic acids, polymers with alkanoic acid, alkanediol, susbtituted-alkylalkanoic acid, substituted alkyl carbomonocyle, alkanedioic acid and alkanediol, alkanolamine blocked, compds with alkanolamine.
P-17-0388A | 6 | 09/03/2019 | CBI | (G) Paint | (G) Dicarboxylic acids, polymers with alkanoic acid, alkanediol, susbtituted-alkylalkanoic acid, substituted alkyl carbomonocyle, alkanedioic acid and alkanediol, alkanolamine blocked, compds with alkanolamine.
P-17-0398A | 11 | 03/21/2019 | Nexus Fuels | (G) Wax- Component of complex formulations for blending | (G) Branched Cyclic and Linear Hydrocarbons from Plastic Depolymerization.
P-17-0398A | 13 | 08/22/2019 | Nexus Fuels | (G) Component of complex formulations for blending | (G) Branched Cyclic and Linear Hydrocarbons from Plastic Depolymerization.
P-17-0399A | 11 | 03/21/2019 | Nexus Fuels | (G) Stock use | (G) Alkane, Alkene, Styrenic Compounds Derived from Plastic Depolymerization.
P-17-0399A | 13 | 08/22/2019 | Nexus Fuels | (G) Stock use | (G) Alkane, Alkene, Styrenic Compounds Derived from Plastic Depolymerization.
P-18-0001A | 10 | 03/21/2019 | Nexus Fuels | (G) Additive | (G) Carbon compound derived from plastic depolymerization.
P-18-0001A | 12 | 08/23/2019 | Nexus Fuels | (G) Additive | (G) Carbon compound derived from plastic depolymerization.
P-18-0012A | 5 | 09/18/2019 | CBI | (G) Adhesives | (G) Polyester polyol.
P-18-0018A | 5 | 09/03/2019 | Kyodo Yushi USA, Inc | (G) Lubricant | (G) Fluorinated acrylate, polymer with alkyloxirane homopolymer monoether with alkanediol mono(2-methyl-2-propenoate), tert-Bu 2-ethylhexaneperoxoate-initiated.
P-18-0021A | 3 | 09/03/2019 | CBI | (G) Paint | (G) Dicarboxylic acids, polymers with substituted poly( substituted alkendiyl) ,3-hydroxy-2-(hydroxyalkyl)-2-alkylalkenoic acid, 5-substituted-1-(substituted alkyl)-1,3,3-trialkyl carbomonocyle, alkanediol, alkane-triol, alcohol blocked compounds with aminoalcohol.
P-18-0028A | 8 | 08/23/2019 | Nexus Fuels | (G) Feedstock, blending | (G) Branched cyclic and linear hydrocarbons from plastic depolymerization.
P-18-0049A | 7 | 09/20/2019 | CBI | (G) Coating component/processing aid | (G) Mixed metal halide.
P-18-0056A | 8 | 09/26/2019 | CBI | (S) Rubber Adhesion promoter. Use in the manufacturing process of tires. The PMN chemical improves the bonding of rubber to metal; acts as an oxygen scavenger in various applications | (S) Cobalt Neodecanoate Propionate complexes.
P-18-0061A | 4 | 08/29/2019 | CBI | (G) Industrial coating hardners | (G) Alkyl methacrylates, polymer with alkyl acrylates, styrene hydroxyalkyl acrylates, novalac epoxy and epoxy modified acrylic salt with organic amines.
P-18-0063A | 2 | 09/17/2019 | Ethox Chemicals, LLC | (G) This material is used as a lubricant additive for applications such as stamping, forming, cutting, drilling, or otherwise working metals | (G) alcohol alkoxylate phosphate,.
P-18-0074A | 3 | 08/21/2019 | CBI | (S) A precursor used in the synthesis of quantum dots that are used as a component to make an optical down converter, and, Component in an optical down converter | (G) Saturated fatty acid, reaction products with cadmium zinc selenide sulfide and polymeric amine.
P-18-0076A | 2 | 09/03/2019 | CBI | (G) Plastic additive | (G) 1,3,5-Triazine-2,4-Diamine Derivative.
P-18-0084A | 7 | 08/14/2019 | ShayoNano USA, Inc | (S) Additive for paints and coatings | (S) silicon zinc oxide.
P-18-0105A | 2 | 09/19/2019 | Reagens USA Inc | (S) This product is used in rigid and flexible PVC processing as a booster of PVC stabilisers. It improves long term stability, initial colour and the weathering performance of end products | (S) Phosphorous acid, triisotridecyl ester.
P-18-0109A | 3 | 08/30/2019 | CBI | (G) Additive, open, non-dispersive use | (G) 2-Alkenoic acid, 2-alkyl-, alkyl ester, polymer with 2-(dialkylamino)alkyl 2-alkyl-2-alkenoate, alkyl 2-alkyl-2-alkenoate and ¿-(2-alkyl-1-oxo-2-alken-1-yl)-¿-alkoxypoly(oxy-1,2-alkanediyl), [(1-alkoxy-2-alkyl-1-alken-1-yl)oxy]trialkylsilane-initiated,.
P-18-0144A | 4 | 09/05/2019 | CBI | (G) Curing agent | (G) Formaldehyde, polymer with an alkane diamine and phenol,.
P-18-0144A | 5 | 09/18/2019 | CBI | (G) Anti-corrosive primer for outdoor industrial applications | (G) Formaldehyde, polymer with an alkane diamine and phenol.
P-18-0152A | 3 | 07/05/2018 | CBI | (G) Intermediate for use in manufacturing | (G) Hydrolyzed Functionalized Di-amino Silanol Polymer.
P-18-0154A | 7 | 09/03/2019 | CBI | (G) Crosslinking agent for coatings | (G) Isocyanic acid, polyalkylenepolycycloalkylene ester, 2-alkoxy alkanol and 1-alkoxy alkanol and alkylene diol blocked.
P-18-0155A | 4 | 05/03/2019 | CBI | (G) Component in cement | (G) Crosslinked polymer of alkyl acrylamides, acrylate esters, and alkyl acrylamide sulfonate salt.
P-18-0155A | 5 | 05/06/2019 | CBI | (G) Component in cement | (G) Crosslinked polymer of alkyl acrylamides, acrylate esters, and alkyl acrylamide sulfonate salt.
P-18-0155A | 6 | 08/06/2019 | CBI | (G) Component in cement | (G) Crosslinked polymer of alkyl acrylamides, acrylate esters, and alkyl acrylamide sulfonate salt.
P-18-0156A | 4 | 05/03/2019 | CBI | (G) Component in cement | (G) Crosslinked polymer of alkyl acrylamides, acrylate esters, and alkyl acrylamide sulfonic acid.
P-18-0156A | 5 | 05/06/2019 | CBI | (G) Component in cement | (G) Crosslinked polymer of alkyl acrylamides, acrylate esters, and alkyl acrylamide sulfonic acid.
P-18-0156A | 6 | 08/06/2019 | CBI | (G) Component in cement | (G) Crosslinked polymer of alkyl acrylamides, acrylate esters, and alkyl acrylamide sulfonic acid.
P-18-0160A | 3 | 02/20/2019 | CBI | (G) Coating component | (G) Heteropolycyclic, halo substituted alkyl substituted- diaromatic amino substituted carbomonocycle, halo substituted alkyl substituted heteropolycyclic, tetraaromatic metalloid salt (1:1).
P-18-0170A | 6 | 05/23/2018 | CBI | (G) Textile treatment | (S) 1-Propanaminium, N,N′-(oxydi-2,1-ethanediyl)bis[3-chloro-2-hydroxy-N,N-dimethyl-, dichloride.
P-18-0172A | 10 | 04/04/2019 | CBI | (S) Category of use: by function and application i.e. a dispersive dye for finishing polyester fibers) | (S) Calcium, carbonate 2-ethylhexanoate neodecanoate propionate complex.
P-18-0172A | 11 | 06/25/2019 | CBI | (S) Category of use: by function and application i.e. a dispersive dye for finishing polyester fibers) | (S) Calcium, carbonate 2-ethylhexanoate neodecanoate propionate complex.
P-18-0172A | 12 | 08/21/2019 | CBI | (S) Category of use: by function and application i.e. a dispersive dye for finishing polyester fibers) | (S) Calcium, carbonate 2-ethylhexanoate neodecanoate propionate complex.
P-18-0192A | 3 | 09/12/2019 | Archroma U.S., Inc | (S) Optical brightener for use in paper applications | (G) Benzenesulfonic acid, (alkenediyl)bis[[[(hydroxyalkyl)amino]-(phenylamino)-triazin-2-yl]amino]-, N-(hydroxyalkyl) derivs., salts, compds. with polyalkyl-substituted(alkanol).
P-18-0197A | 3 | 09/04/2019 | CBI | (G) Polymer composite additive | (G) Metal, alkylcarboxylate oxo complexes.
P-18-0202A | 5 | 06/21/2018 | Hexion, Inc | (G) Tackifier additives and Rubber additive | (G) Trialkyl alkanal, polymer with phenol.
P-18-0202A | 6 | 05/23/2019 | Hexion, Inc | (G) Tackifier additives and Rubber additive | (G) Trialkyl alkanal, polymer with phenol.
P-18-0203A | 5 | 06/21/2018 | Hexion, Inc | (G) Tackifier additives and Rubber additive | (G) Trialkyl alkanal, polymer with alkylalkanal and phenol.
P-18-0203A | 6 | 05/23/2019 | Hexion, Inc | (G) Rubber additive and Tackifier additives | (G) Trialkyl alkanal, polymer with alkylalkanal and phenol.
P-18-0204A | 5 | 06/21/2018 | Hexion, Inc | (G) Tackifier additive and Rubber additive | (G) Alkyl alkanal, polymer with phenol.
P-18-0204A | 6 | 05/23/2019 | Hexion, Inc | (G) Rubber additive and Tackifier additives | (G) Alkyl alkanal, polymer with phenol.
P-18-0205A | 5 | 06/21/2018 | Hexion, Inc | (G) Rubber additive and Tackifier additive | (G) Alkyl alkanal, polymer with formaldehyde and phenol.
P-18-0205A | 6 | 05/23/2019 | Hexion, Inc | (G) Rubber additive and Tackifier additive | (G) Alkyl alkanal, polymer with formaldehyde and phenol.
P-18-0206A | 5 | 06/21/2018 | Hexion, Inc | (G) Rubber additive and Tackifier | (G) Alkanal, polymer with phenol.
P-18-0206A | 6 | 05/23/2019 | Hexion, Inc | (G) Rubber additive and Tackifier additive | (G) Alkanal, polymer with phenol.
P-18-0207A | 4 | 09/04/2019 | CBI | (G) Polymer composite additive | (G) Metal, oxo alkylcarboxylate complexes.
P-18-0223A | 3 | 09/14/2019 | Clariant Corporation | (S) Selectivity improver for catalysts used in the production of polyolefins | (G) Alkane, bis(alkoxymethyl)-dimethyl-.
P-18-0234A | 5 | 05/31/2019 | CBI | (G) Coating component | (G) Alkenoic acid, reaction products with bis substituted alkane and ether polyol.
P-18-0237A | 8 | 07/13/2019 | CBI | (G) Use in print resins | (G) Alkanediol, polymer with 5-isocyanato-1-(isocyanatomethyl)-1,3,3-trimethylcyclohexane, alkylaminoalkyl methacrylate-, and dialkylheteromonocycle-blocked.
P-18-0256A | 3 | 09/19/2019 | CBI | (G) Solvent and Chemical intermediate | (S) Undecanol, branched.
P-18-0262A | 5 | 09/16/2019 | Seppic | (S) Function: Stabilizer of suspensions Applications: Detergency | (S) 2-Propenoic acid, 2-methyl-, dodecyl ester, polymer with ammonium 2-methyl-2-[(1-oxo-2-propen-1-yl)amino]-1-propanesulfonate (1:1), N,N-dimethyl-2-propenamide and alpha-(2-methyl-1-oxo-2-propen-1-yl)-omega-(dodecyloxy)poly(oxy-1,2-ethanediyl).
P-18-0287A | 6 | 02/11/2019 | CBI | (G) Company plans to produce “tires, wastes, pyrolyzed, condensate oil fraction” (hereafter referred to as syn oil) (CASRN: 1312024-02-4) from scrap tire materials. The synthetic oil fraction from tire waste pyrolysis can be used in a variety of industries. Some examples of use of synthetic oil include use as a fuel, upgraded for use as a higher quality fuel, as an additive for asphalt or other complex mixtures, used to manufacture other chemicals, etc | (G) Synthetic oil from tires.
P-18-0287A | 7 | 02/28/2019 | CBI | (G) Company plans to produce “tires, wastes, pyrolyzed, condensate oil fraction” (hereafter referred to as syn oil) (CASRN: 1312024-02-4) from scrap tire materials. The synthetic oil fraction from tire waste pyrolysis can be used in a variety of industries. Some examples of use of synthetic oil include use as a fuel, upgraded for use as a higher quality fuel, as an additive for asphalt or other complex mixtures, used to manufacture other chemicals, etc | (G) Synthetic oil from tires.
P-18-0287A | 8 | 05/22/2019 | CBI | (G) Company plans to produce “tires, wastes, pyrolyzed, condensate oil fraction” (hereafter referred to as syn oil) (CASRN: 1312024-02-4) from scrap tire materials. The synthetic oil fraction from tire waste pyrolysis can be used in a variety of industries. Some examples of use of synthetic oil include use as a fuel, upgraded for use as a higher quality fuel, as an additive for asphalt or other complex mixtures, used to manufacture other chemicals, etc | (G) Synthetic oil from tires.
P-18-0289A | 3 | 02/15/2019 | CBI | (G) Gas scrubbing,) landfill deoderizing, and wastewater deoderizing | (G) 2-(2(methylcaboxymonocyclic)amino)ethoxy)-alcohol.
P-18-0290A | 3 | 02/15/2019 | CBI | (G) Gas scrubbing, Landfill odor neutralizing, and wastewater deoderizing | (G) Carbomonocylic-oxazolidine.
P-18-0293A | 4 | 08/02/2019 | CBI | (S) Monomer for use in emulsion polymers, formulated industrial coatings, and formulated industrial adhesives | (S) Propanedioic acid, 2-methylene-, 1,3-dihexyl ester.
P-18-0293A | 5 | 08/06/2019 | CBI | (S) Monomer for use in emulsion polymers, formulated industrial coatings, and formulated industrial adhesives | (S) Propanedioic acid, 2-methylene-, 1,3-dihexyl ester.
P-18-0294A | 4 | 08/02/2019 | CBI | (S) Monomer for use in emulsion polymers, formulated industrial coatings, and formulated industrial adhesives | (S) Propanedioic acid, 2-methylene-, 1,3-dicyclohexyl ester.
P-18-0294A | 5 | 08/06/2019 | CBI | (S) Monomer for use in emulsion polymers,(S) Monomer for use in formulated industrial coatings,(S) Monomer for use in formulated industrial adhesives | (S) Propanedioic acid, 2-methylene-, 1,3-dicyclohexyl ester.
P-18-0295A | 5 | 08/22/2019 | CBI | (G) Ingredient in the manufacture of consumer cleaning products and use as monomer in the manufacture of resins for use in paint and coating products (S) Use as a monomer in the manufacture of plastic products. In this process the notified substance is reacted with one or more other compounds to become part of a polymer. Depending on the reactants involved, the final polymer can be a resin used to make molded plastic products or the final polymer can be a shorter polymer used as a plasticizer | (S) 1,3-Butanediol, (3R)-.
P-18-0295A | 6 | 09/25/2019 | CBI | (G) Ingredient in the manufacture of consumer cleaning products and use as monomer in the manufacture of resins for use in paint and coating products (S) Use as a monomer in the manufacture of plastic products. In this process the notified substance is reacted with one or more other compounds to become part of a polymer. Depending on the reactants involved, the final polymer can be a resin used to make molded plastic products or the final polymer can be a shorter polymer used as a plasticizer | (S) 1,3-Butanediol, (3R)-.
P-18-0323A | 4 | 09/20/2019 | KURARAY America, Inc | (G) Raw material for polymer manufacturing | (S) 2-Propenoic acid, 2-methyl-, 3-methyl-3-buten-1-yl ester.
P-18-0327A | 5 | 09/18/2019 | CBI | (G) Filler for non-dispersive resins. | (G) Mixed Metal Oxide.
P-18-0336A | 4 | 07/12/2019 | Sirrus, Inc | (S) Intermediate use | (S) Propanedioic acid, 2,2-bis(hydroxymethyl)-, 1,3-dihexyl ester.
P-18-0337A | 4 | 07/12/2019 | Sirrus, Inc | (S) Intermediate use | (S) Propanedioic acid, 2,2-bis(hydroxymethyl)-, 1,3-dicyclohexyl ester.
P-18-0358A | 2 | 10/18/2018 | Shikoku International Corporation | (S) Used as a curing agent within carbon fiber reinforced plastics (CFRP) prepreg to expedite the hardening process during the final thermosetting operation and as a curing agent in industrial adhesives for electronics to expedite the hardening process during the final thermosetting operation | (S) 1H-Imidazole-1-propanenitrile,2-ethyl-ar-methyl-.
P-18-0358A | 3 | 10/18/2018 | Shikoku International Corporation | (S) Used as a curing agent within carbon fiber reinforced plastics (CFRP) prepreg to expedite the hardening process during the final thermosetting operation and as a curing agent in industrial adhesives for electronics to expedite the hardening process during the final thermosetting operation | (S) 1H-Imidazole-1-propanenitrile,2-ethyl-ar-methyl-.
P-18-0374A | 4 | 09/05/2019 | Evonik Corporation | (S) Additive in a water-borne coating formulation, Glass fiber sizing, and Fillers, pigments and glass bead treatment | (G) Cationic aminomodified alkylpolysiloxane.
P-18-0378A | 4 | 08/29/2019 | CBI | (G) Industrial coatings additive | (G) Acrylic and Methacrylic acids and esters, polymer with alkenylimidazole, alkyl polyalkylene glycol, alkenylbenzene, alkylbenzeneperoxoic acid ester initiated, compds. with Dialkylaminoalkanol.
P-18-0392A | 2 | 08/22/2019 | CBI | (G) Intermediate chemical | (G) Heteromonocycle, alkenyl alkyl.
P-18-0392A | 3 | 09/13/2019 | CBI | (G) Intermediate chemical | (G) Heteromonocycle, alkenyl alkyl.
P-18-0399A | 6 | 09/02/2019 | CBI | (G) Open, non-dispersive use additive for industrial use only | (G) Rosin adduct ester, polymer with polyols, compd. with ethanolamine.
P-18-0400A | 6 | 08/30/2019 | CBI | (G) Open, non-dispersive use, additive for textile industry | (G) Rosin adduct ester, polymer with polyols, potassium salt.
P-18-0404A | 7 | 09/25/2019 | CBI | (S) The substance is part of a mixture with other amines to act as a curative for a 2-part epoxy formulation. The intended use is the manufacture of wind turbine blades. During manufacture of the blades this substance forms part of the in mold coating system which is applied to the blade mold and further laminated with glass (or carbon) reinforced fibres (GRP). The manufactured structure is then “'cured' using heat and a chemical reaction occurs forming a solid composite structure. The PMN substance is reacted during the cure process into the solid plastic matrix and therefore not present in the finished cured part. Use of this product will enhance the life of renewable energy source provided by wind turbines therefore contributing to the reduction in fossil fuel usage | (G) alkylmultiheteroatom,2-functionalisedalkyl-2-hydroxyalkyl-, polymer with alkylheteroatom-multialkylfunctionalised carbomonocyleheteroatom and multiglycidylether difunctionalised polyalkylene glycol.
P-18-0414A | 2 | 09/06/2019 | CBI | (G) Lubricant additive | (G) 2-alkenoic acid ester, polymer with alkyloxirane polymer with oxirane di-alkenoate, alkyloxirane polymer with oxirane mono-alkenoate, -(2-alkyl-1-oxo-2-alken-1-yl)—[(2-alkyl-1-oxo-2-alken-1-yl)oxy]poly(oxyalkanediyl), fluorinated acrylate and siloxanylalkanoate, alkylperoxoate-initiated.
P-19-0024A | 7 | 08/28/2019 | Sales and Distribution Services, Inc | (S) Hot Mix Asphalt Application: The PMN compound will be used as asphalt additive for hot mix (HMA) as well as cold mix (CMA) asphalt applications. The PMN substance chemically reacts with the surface of the aggregate and changes surface characteristics of aggregate from hydrophilic to hydrophobic. This change provides stronger bonding between asphalt and aggregates and reduces the potential for stripping away asphalt binder from an aggregate due to water. Asphalt Emulsion Application: The PMN substance is water soluble and can be used as an asphalt emulsion in road construction. This additive provides better bonding with ground surface, quick drying and reduced tire pickup of the asphalt emulsion by application equipment | (S) 1-Octadecanaminium, N,N-dimethyl-N-[3-(trimethoxysilyl)propyl]-, chloride (1:1) , reaction products with water, Trimethoxy(propyl) silane, Trimethoxy(methyl)silane, Tetraethyl orthosilicate and ethane-1,2-diol.
P-19-0028A | 8 | 05/14/2019 | CBI | (G) Lubricating oil additive | (G) Alkyl salicylate, metal salts.
P-19-0028A | 9 | 08/23/2019 | CBI | (G) Lubricating oil additive | (G) Alkyl salicylate, metal salts.
P-19-0041A | 2 | 09/23/2019 | CBI | (G) Oil water separation | (G) Alkyl diester, polymer with (dialkylamino alkyl) amine and bis(halogenated alkyl) ether.
P-19-0042A | 2 | 09/23/2019 | CBI | (G) Oil water separation | (G) Alkyl diester, polymer with (dialkylamino alkyl) amine and bis(halogenated alkyl) ether.
P-19-0043A | 2 | 09/23/2019 | CBI | (G) Oil water separation | (G) Alkyl dicarboxylic acid, polymer with (dialkylamino alkyl) amine and bis(halogenated alkyl) ether.
P-19-0044A | 2 | 09/23/2019 | CBI | (G) Oil water separation | (G) Alkyl bis(dialkylamino alkyl) amide polymer with bis(halogenated alkyl) ether.
P-19-0048A | 3 | 09/16/2019 | CBI | (G) Coating additive | (S) Poly(oxy-1,2-ethanediyl), alpha-hydro-omega-hydroxy-, mono-C12-14-alkyl ethers, phosphates, sodium salts.
P-19-0052A | 3 | 05/01/2019 | Evonik Corporation | (S) Hard Surface Cleaner and Component of Laundry Detergent | (S) Poly(oxy-1,2-ethanediyl), alpha-nonyl-omega-hydroxy-, branched and linear.
P-19-0058A | 3 | 09/24/2019 | Essential Industries, Inc | (S) Wood Coating | (S) Butanoic acid, 3-oxo-, 2-[(2-methyl-1-oxo-2-propen-1-yl)oxy]ethyl ester, polymer with butyl 2-propenoate, ethenylbenzene, methyl 2-methyl-2-propenoate and 2-methyl-2-popenoic acid, ammonium salt.
P-19-0065A | 5 | 04/24/2019 | eScientia Technologies, LLC | (S) Fire retardant for thermal plastics: Application: This product is the environmental protection Phosphazene flame retardant. It does not produce pollutants after burning. It is mainly used in PC and ABS resins. It has good flame retardancy on epoxy resin, it can be used to make EMC for IC Packaging, its flame retardancy is much better than Brominated flame retardant. The flame retardancy can reach UL-94V0 grade. Oxygen index could reach 33.1%. When it is used in Benzoxazine Resin glass cloth laminate, if the HPCTP is 10%, the grade of burning could reach V-0 grade, the parallel breakdown voltage is 47KV. When it is used in Polyethylene, the LOI of final flame retardancy polyethylene could reach 30-33. After used in viscose spinning solution, we could get the flame retardant viscose fiber with oxygen index 25.3-26.7. If the added amount is 12% in PC/ABS, it could pass the UL-94 V0 test. It also can be used in LED, powder coating, potting material and polymers | (S) 2lambda5, 4lambda5, 6lambda5-1,3,5,2,4,6 Triazatriphosphorine, 2,2,4,4,6,6-hexaphenoxy -.
P-19-0065A | 6 | 06/11/2019 | eScientia Technologies, LLC | (S) Fire retardant for thermal plastics: Application: This product is the environmental protection Phosphazene flame retardant. It does not produce pollutants after burning. It is mainly used in PC and ABS resins. It has good flame retardancy on epoxy resin, it can be used to make EMC for IC Packaging, its flame retardancy is much better than Brominated flame retardant. The flame retardancy can reach UL-94V0 grade. Oxygen index could reach 33.1%. When it is used in Benzoxazine Resin glass cloth laminate, if the HPCTP is 10%, the grade of burning could reach V-0 grade, the parallel breakdown voltage is 47KV. When it is used in Polyethylene, the LOI of final flame retardancy polyethylene could reach 30-33. After used in viscose spinning solution, we could get the flame retardant viscose fiber with oxygen index 25.3-26.7. If the added amount is 12% in PC/ABS, it could pass the UL-94 V0 test. It also can be used in LED, powder coating, potting material and polymers | (S) 2lambda5, 4lambda5, 6lambda5-1,3,5,2,4,6 Triazatriphosphorine, 2,2,4,4,6,6-hexaphenoxy -.
P-19-0066A | 5 | 04/24/2019 | eScientia Technologies, LLC | (S) Fire retardant | (S) 2lambda5, 4lambda5,- 1,3,5,2,4,6 Triazatriphosphorine, 2,2,4,4,6,6,-hexaphenoxy.
P-19-0066A | 6 | 06/11/2019 | eScientia Technologies, LLC | (S) Fire retardant for industry use only | (S) 2lambda5, 4lambda5,- 1,3,5,2,4,6 Triazatriphosphorine, 2,2,4,4,6,6,-hexaphenoxy.
P-19-0071A | 4 | 09/23/2019 | CBI | (G) Physical property modifier for polymers | (G) Trimethylolpropane, alkenoic acid, triester.
P-19-0077A | 7 | 09/23/2019 | CBI | (G) Agricultural | (G) alkenylamide.
P-19-0099A | 4 | 08/29/2019 | Essential Industries Inc | (S) Clear coat for wood | (S) Propanoic acid, 3-hydroxy-2-(hydroxymethyl)-2-methyl-, polymer with dimethyl carbonate, 1,2-ethanediamine, 2-ethyl-2-(hydroxymethyl)-1,3-propanediol, 1,6-hexanediol and 1,1′-methylenebis[4-isocyanatocyclohexane], compd. with N,N-diethylethanamine.
P-19-0117A | 5 | 09/18/2019 | CBI | (G) Additive | (G) Polycyclic amine, reaction products with polyalkylalkene, polymers.
P-19-0118A | 3 | 08/30/2019 | CBI | (G) Component of lubricant | (G) Substituted polyalkylenepoly, reaction products with alkene polymer.
P-19-0120A | 2 | 08/30/2019 | CBI | (G) Component of ink | (G) Alkenoic acid, polymer with alkanediyl bis substituted alkylene bis heteromonocycle, substituted carbomonocycle and (alkylalkenyl) carbomonocycle, alkali metal salt.
P-19-0121A | 3 | 09/24/2019 | H.B. Fuller Company | (S) Industrial Adhesives | (G) Plant based oils, polymer with 1,1′-methylenebis[4-isocyanatobenzene], pentaerythritol, phthalic esters, polypropylene glycol and polypropylene glycol ether with glycerol (3:1).
P-19-0130A | 4 | 09/16/2019 | CBI | (G) Dye | (G) Aminohydroxy naphthalenesulfonic acid, coupled with diazotized[(aminophenyl)sulfonyl]ethyl hydrogen sulfate and diazotized amino[[(sulfooxy)ethyl]sulfonyl]benzenesulfonic acid, salts.
P-19-0130A | 5 | 09/20/2019 | CBI | (G) Dye | (G) Aminohydroxy naphthalenesulfonic acid, coupled with diazotized[(aminophenyl)sulfonyl]ethyl hydrogen sulfate and diazotized amino[[(sulfooxy)ethyl]sulfonyl]benzenesulfonic acid, salts.
P-19-0130A | 6 | 09/20/2019 | CBI | (G) dye | (G) Aminohydroxy naphthalenesulfonic acid, coupled with diazotized[(aminophenyl)sulfonyl]ethyl hydrogen sulfate and diazotized amino[[(sulfooxy)ethyl]sulfonyl]benzenesulfonic acid, salts.
P-19-0135 | 3 | 08/26/2019 | CBI | (G) Lubricant Additive | (G) Alkyl polyoxyethylene ethers, carboxymethylated,.
P-19-0140A | 2 | 09/25/2019 | CBI | (G) Intermediate | (G) Perfluorodioxaalkyl vinyl ether.
P-19-0141 | 3 | 09/19/2019 | CBI | (S) For use in metal treatment coatings for lubrication and corrosion protection | (S) Phosphoric Acid, manganese(2+) salt (2:3); Phosphoric acid, manganese(2+) salt (4:5).
P-19-0143A | 3 | 09/10/2019 | Aditya Birla Chemicals (USA), LLC | (S) A crosslinking agent for use in epoxy resin for water-based coating for a variety of substrates and civil applications in commercial and consumer usages | (G) Aldehyde, polymer with mixed alkanepolyamines, 2,2′-[1,4-alkanediylbis(oxyalkylene)] bis[oxirane], 2-(alkoxyalkyloxirane, 4,4′-(1-alkylidene)bis[phenol], 2,2′-[(1-alkylidene)bis(4,1-alkyleneoxyalkylene)]bis[oxirane] and 2-(aryloxyalkyl)oxirane, acetate (salt).
P-19-0144A | 3 | 09/11/2019 | Aditya Birla Chemicals (USA), LLC | (S) A crosslinking agent in epoxy based self-leveling floor coatings | (G) Alkanedioic Acid, compds. With substituted arylalkylamine- arylalcohol disubstituted alkane—the diglycidyl ether of a arylalcohol disubstituted alkane—epichlorohydrin-aldehyde-2,2′-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-19-0147A | 3 | 09/09/2019 | CRODA, INC | (G) cleaning additive | (G) alkoxylated butyl alkyl ester.
P-19-0153A | 3 | 09/24/2019 | Wego Chemical Group | (S) Raw material in Flame Retardant product | (G) Dibromoalkyl ether Tetrabromobisphenol A.
P-19-0155 | 3 | 09/18/2019 | Huntsman International, LLC | (S) Adjuvant for agrochemical formulations | (S) Amides, from C8-18 and C18-unsatd. glycerides and diethylenetriamine, ethoxylated.
P-19-0156 | 3 | 09/18/2019 | Huntsman International, LLC | (S) Adjuvant for agrochemical formulations | (S) Amides, from diethylenetriamine and palm kernel-oil, ethoxylated.
P-19-0157 | 3 | 09/18/2019 | Huntsman International, LLC | (S) Adjuvant in agrochemical formulations | (S) Amides, from coconut oil and diethylenetriamine, ethoxylated.
P-19-0158 | 2 | 09/16/2019 | Ashland, Inc | (G) Adhesive | (G) Alkenoic acid polymer with 2-ethyl-2-(hdroxymethyl)-1,3-alkyldiol, 1,1′-methylenebis(4-isocyantocarbomonocycle) and 3-methyl-1,5-aklydiol.
P-19-0158A | 3 | 09/25/2019 | Ashland, Inc | (G) Adhesive | (G) Alkenoic acid polymer with 2-ethyl-2-(hdroxymethyl)-1,3-alkyldiol, 1,1′-methylenebis(4-isocyantocarbomonocycle) and 3-methyl-1,5-aklydiol.
P-19-0159 | 2 | 09/03/2019 | CBI | (G) As Catalyst in Industrial sector | (G) Titanium (4+) hydroxy-alkylcarboxylate salt complex.
P-19-0159A | 4 | 09/17/2019 | CBI | (G) As Catalyst in Industrial sector | (G) Titanium (4+) hydroxy-alkylcarboxylate salt complex.
P-19-0160 | 1 | 09/06/2019 | CBI | (S) Component of a UV curable printing ink | (G) Alkanesulfonic acid, 2-[(2-aminoethyl)heteroatom-substituted]-, sodium salt (1:1), polymer with alpha-[2,2-bis(hydroxymethyl)butyl]-omega-methoxypoly(oxy-1,2-ethanediyl) and 1,1′-methylenebis[4-isocyanatocyclohexane], acrylic acid-dipenthaerythritol reaction products- and polypropylene glycol ether with pentaerythritol (4:1) triacrylate-blocked.
P-19-0161 | 1 | 09/07/2019 | CBI | (S) Organic amine salt mixture used as a foaming agent in the production of urethanes | (G) Alkano1 amine salt mixture.
P-19-0162 | 1 | 09/11/2019 | CBI | (G) Component in Oil Production | (G) fatty acid alkyl amide, (dialkyl) amino alkyl, alkyl quaternized, salts.
P-19-0163 | 1 | 09/19/2019 | CBI | (G) Well performance tracer | (G) halogenated sodium benzoate.
P-19-0163A | 2 | 09/25/2019 | CBI | (G) Well performance tracer | (G) halogenated sodium benzoate.
P-19-0164 | 1 | 09/20/2019 | Allnex USA, Inc | (S) Site limited intermediate for coating resin manufacture | (G) Bis-alkoxy substituted alkane, polymer with aminoalkanol.
P-19-0165 | 1 | 09/23/2019 | Arboris, LLC | (G) Plasticizer in rubber and Coating in minerals | (G) Tall oil pitch, fraction, sterol-low.
P-19-0166 | 1 | 09/25/2019 | Fujifilm Electronic Materials USA Inc | (G) Photoacid generator (PAG) | (G) Triarylsulfonium alkylestersulfonate,.
P-19-0167 | 1 | 09/25/2019 | Santolubes Manufacturing LLC | (S) Synthetic engine, gear and lubricating oils and greases | (S) Poly(oxy-1,4-butanediyl), alpha-hydro-omega-hydroxy-, hexanoate.
P-19-0168 | 2 | 09/26/2019 | CBI | (G) Well performance tracer | (G) Halogenated alkylbenzoic acid.
P-19-0169 | 2 | 09/26/2019 | CBI | (G) Well performance monitor | (G) Halogenated alkylbenzoic acid.
P-19-0170 | 1 | 09/25/2019 | CBI | (S) Coupling agent in elastomer-based formulations that will be used in molding operations to manufacture different types of rubber articles including but not limited to rubber tires | (G) Heteroatom-substituted alkyl triethoxysilane, reaction products with methylated formaldehyde-melamine polymer.
P-19-0175 | 1 | 09/25/2019 | CBI | (G) Well performance monitor | (G) Halogenated alkylbenzoic acid.
P-19-0176 | 1 | 09/25/2019 | CBI | (G) Well performance monitor | (G) Halogenated alkylbenzoic acid.
P-19-0177 | 1 | 09/25/2019 | CBI | (G) Well performance monitor | (G) Halogenated alkylbenzoic acid.
P-19-0178 | 1 | 09/25/2019 | CBI | (G) Well performance monitor | (G) Halogenated alkylbenzoic acid.
P-19-0179 | 1 | 09/25/2019 | CBI | (G) Well performance monitor | (G) Halogenated alkylbenzoic acid.
SN-18-0009A | 5 | 02/11/2019 | CBI | (G) XX plans to produce carbon char from tires pyrolysis using scrap tire materials | (G) Carbon char from tires.
SN-18-0009A | 6 | 02/28/2019 | CBI | (G) XX plans to produce carbon char from tires pyrolysis using scrap tire materials | (G) Carbon char from tires.
SN-19-0002A | 3 | 04/10/2019 | CBI | (G) Friction and wear stabilizer in certain solid composite articles | (G) Potassium Titanate.
SN-19-0002A | 4 | 04/12/2019 | CBI | (G) Friction and wear stabilizer in certain solid composite articles | (G) Potassium Titanate.
SN-19-0004A | 8 | 09/13/2019 | CBI | (S) A lubricating agent used in the production of automotive disc brakes | (G) pitch coke.
SN-19-0004A | 9 | 09/19/2019 | CBI | (S) A lubricating agent used in the production of automotive disc brakes
* The term ‘Approved’ indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved* From 09/01/2019 to 09/30/2019
Case No. | Received date | Commencement date | If amendment, type of amendment | Chemical substance
J-19-0019 | 09/25/2019 | 09/17/2019 | N | (G) Genetically modified microorganism.
P-07-0023 | 09/04/2019 | 08/30/2019 | N | (S) Propanoic acid, 3-hydroxy-2-(hydroxymethyl)-2-methyl-, polymer with 2-ethyl-2-(hydroxylmethyl)-1,3-propanediol, hydrazine, alpha-hydro-omega-hydroxypoly (oxy-1,4-butanediyl) and 1,1′-methylenebis[4-isocyanatocyclohexane], caprolactam- and polyethylene glycol mono-me ether-blocked, compds, with triethylamine.
P-16-0225A | 09/16/2019 | 07/07/2019 | Withdrew CBI claim | (S) Cyclohexanol, 4-ethylidene-2-propoxy- Cyclohexanol, 5-ethylidne-2-propoxy.
P-16-0396 | 09/03/2019 | 08/12/2019 | N | (G) Alkylaminium hydroxide.
P-16-0572 | 09/26/2019 | 09/19/2019 | N | (G) Polyamine polyacid adducts.
P-17-0200 | 09/26/2019 | 09/21/2019 | N | (G) 1,3-bis(substitutedbenzoyl)benzene.
P-17-0204 | 09/26/2019 | 09/21/2019 | N | (G) 1,4-bis(substitutedbenzoyl)benzene.
P-17-0205 | 09/26/2019 | 09/21/2019 | N | (G) Bis(fluorobenzoyl)benzene.
P-17-0393 | 09/03/2019 | 08/30/2019 | N | (G) Alkanediamine, dialkyl-, polymer with alpha-hydro-omega-[(1-oxo-2-propen-1-yl)oxy]poly(oxy-1,2-ethanediyl) ether with substituted alkyl-substitutedalkanediol, reaction products with alkyl-alkanamine.
P-18-0177 | 09/16/2019 | 09/03/2019 | N | (S) Waxes and waxy substances, rice bran, oxidized.
P-18-0230 | 09/16/2019 | 09/03/2019 | N | (S) Waxes and waxy substances, rice bran, oxidized, calcium salts.
P-18-0235 | 08/29/2019 | 08/03/2019 | N | (G) Naphtha oils.
P-19-0047 | 09/20/2019 | 09/11/2019 | N | (S) Propanoic acid, 3-hydroxy-2-(hydroxymethyl)-2-methyl-, polymer with 5-amino-1,3,3-trimethylcyclohexanemethanamine, a-hydro-w-hydroxypoly(oxy-1,4-butanediyl), a-hydro-w-hydroxypoly[oxy(methyl-1,2-ethanediyl)], 5-isocyanato-1-(isocyanatomethyl)-1,3,3-trimethylcyclohexane and 1,1′-methylenebis[4-isocyanatobenzene], Pr alc.-blocked where a = alpha and w = omega.
P-19-0061 | 09/12/2019 | 09/11/2019 | N | (S) Alkanes, C16-20-branched and linear.
P-19-0085 | 09/12/2019 | 09/09/2019 | N | (S) Alkanes, C16-18-branched and linear.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 09/01/2019 to 09/30/2019
Case No. | Received date | Type of test information | Chemical substance
P-00-0281 | 9/3/2019 9/16/2019 9/30/2019 | A 48-hour static acute Toxicity test with the cladoceran (daphnia magna), Acute Immobilization Test (OECD Test Guideline 202), Fish, Acute Toxicity Test (OECD Test Guideline 202), Surface Tension of Aqueous Solutions (OECD Test Guideline 115), Analytical Method Validation for Algae, CMC Protocol Testing, Water Solubility Identification, non cbi a 96-hour toxicity test with the freshwater alga (raphidocelis subcapitata), Solubility Trial Report | (G) Alkylaryl sulfonic acid, sodium salts.
P-13-0270 | 9/5/2019 | Determination of toxicity of [claimed CBI] against Chironomus riparius Meigen in a sediment spiked system (OECD 218) | (G) Aromatic dibenzoate.
P-14-0627 | 9/23/2019 | Prenatal developmental toxicity study (OECD 414) | (S) 1-Butylpyrrolidin-2-one.
P-16-0289 | 9/11/2019 | Particle size and concentration | (G) Benzene dicarboxylic acid, polymer with alkane dioic acid and aliphatic diamine.
P-16-0313 | 8/29/2019 | Toxicity Test on Early-life Stages of Zebrafish Danio rerio (OECD 210), Daphnia magna Reproduction Test (OECD 211) | (S) Tar acids (shale oil), C6-9 fraction, alkylphenols, low-boiling.
P-16-0410 | 9/18/2019 | Skin Irritation (OECD 439) and Skin Corrosion (OECD 431) | (G) Phosphonic acid, [(hydroxycyclosiloxanediyl) alkanediyl] dialkyl ester, alkali metal salt, reaction products with alkali metal silicate.
P-16-0539 | 9/17/2019 | Ready Biodegradability (OECD 301B) | (G) Organic sulfonate compound.
P-16-0543 | 9/26/2019 | Exposure Monitoring Report | (G) Halogenophosphoric acid metal salt.
P-17-0343 | 9/09/2019 | Combined repeated dose toxicity with the reproduction/development toxicity screening test (OECD 422), Classification of reproductive toxicity [claimed CBI] | (G) Heteropolycyclic-alkanol, carbomonocycle-alkanesulfonate.
P-18-0150 | 9/4/2019 | Developmental Toxicity Study in Rats After Inhalation | (G) Tertiary amine, compounds with amino sulfonic acid blocked aliphatic isocyanate homopolymer.
P-18-0351 | 9/3/2019 | 2- week dose range finding study by the oral route (Gavage) in rats, ISO MTS cytotoxicity test, Activated Sludge Respiration Inhibition Test (OECD 209), In Vitro Human Lymphocyte Micronucleus Assay (OECD 487) | (G) Acrylic acid, tricyclo alkyl ester.
P-19-0036 | 8/29/2019 | Solubility Method, Environmental Controls | (S) 1,4-Benzenedicarboxylic acid, 1,4-bis(2-phenoxyethyl) ester.

If you are interested in information that is not included in these tables, you may contact EPA's technical information contact or general information contact as described under FOR FURTHER INFORMATION CONTACT to access additional non-CBI information that may be available.

Authority: 15 U.S.C. 2601 et seq.

Dated: December 10, 2019.
Pamela Myrick,
Director, Information Management Division, Office of Pollution Prevention and Toxics.

[FR Doc. 2019-28338 Filed 12-31-19; 8:45 am]

BILLING CODE 6560-50-P